DEPARTMENT OF COMMERCE

National Oceanic and Atmospheric Administration

[RTID 0648-XA618]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of the Pacific Pelagics Fishery Ecosystem Plan (FEP) Plan Team (PT) to discuss fishery management issues and develop recommendations to the Council for future management of pelagic fisheries in the Western Pacific region.

DATES: For the dates, times and agenda, see SUPPLEMENTARY INFORMATION.

ADDRESSES: The meeting will be held by web conference. Audio and visual portions of the web conference can be accessed at: https://wprfmc.webex.com/wprfmc/onstage/g.php?MTID=e6f56f181a8490aa50b88d7d27030ca3d. Event number (if prompted): 133 176 7822. Event password (if prompted): PelagicPT112. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The Pelagic PT meeting will be held on November 19, 2020, and run each day from 1 p.m. to 5 p.m. Hawaii Standard Time (HST) (12 p.m. to 4 p.m. Samoa Standard Time (SST); 9 a.m. to 1 p.m. on November 20, 2020, Chamorro Standard Time (ChST)). Public comment periods will be provided in the agenda. The order in which agenda items are addressed may change. The meeting will run as late as necessary to complete scheduled business.

Agenda for the Pelagic Plan Team Meeting

Thursday, November 19, 2020, 1 p.m. to 5 p.m. HST

1. Welcome and Introductions

2. Approval of Agenda

3. Oceanic Whitetip Working Group Report

A. Monte Carlo Analyses of Mitigation Measures

B. Post Release Mortality, Handling, and Trailing Gear

C. Vessel Specific Impact Analyses

D. EBFM Project Updates

E. Working Group Report Summary

4. Possible North Pacific Striped Marlin Rebuilding Measure(s)

5. Stock Status Determination of Western and Central Pacific Silky Shark

6. Tori Line Options for Hawaii Longline Fisheries

7. Hawaii Deep-set Longline and American Samoa Longline Reasonable and Prudent Measure Development

8. Hawaii Non-longline Fishery Management

9. Public Comment

10. Pelagic Plan Team Recommendations

11. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 30, 2020.
Tracey L. Thompson,
Acting Deputy Director, Office of Sustainable Fisheries, National Marine Fisheries Service.

[FR Doc. 2020-24434 Filed 11-3-20; 8:45 am]

BILLING CODE 3510-22-P